OFFICE OF THE UNITED STATES TRADE REPRESENTATIVE

[Docket Nos. USTR-2025-0004 and USTR-2025-0005]

Request for Public Comments and Notice of Public Hearing Relating to the Operation of the Agreement Between the United States of America, the United Mexican States, and Canada

AGENCY: Office of the United States Trade Representative (USTR).

ACTION: Request for comments and notice of public hearing.

SUMMARY: USTR is commencing a public consultation process in advance of the joint review (Joint Review) of the Agreement between the United States of America, the United Mexican States, and Canada (USMCA or Agreement) on July 1, 2026. As directed by Congress, USTR is seeking public comments on the operation of the Agreement, including on the operation of the North American Competitiveness Committee (Competitiveness Committee) established therein.

DATES:

November 3, 2025 at 11:59 p.m. EST: Deadline for submitting written comments and requests to appear at the hearing. The request to appear must include a summary of testimony.

November 17, 2025: USTR will hold a public hearing in the main hearing room of the U.S. International Trade Commission, 500 E Street SW, Washington, DC 20436, beginning at 10 a.m. If necessary, the hearing may continue the next business day.

Seven calendar days after the last day of the public hearing, at 11:59 p.m. EST: Deadline for submission of post-hearing rebuttal comments.

ADDRESSES: Submit documents in response to this notice, including written comments, hearing appearance requests, and summaries of testimony through the online USTR portal: https://comments.ustr.gov/s/.

FOR FURTHER INFORMATION CONTACT: Randall Oliver, Director for Canada, at Randall.T.Oliver@ustr.eop.gov or 202.395.9449, or Braeden Young, Director for Mexico, at Braeden.P.Young@ustr.eop.gov or 202.395.9620.

SUPPLEMENTARY INFORMATION:

I. Background

The USMCA entered into force on July 1, 2020.¹ Article 34.7 of the USMCA provides for the Agreement to terminate 16 years after the date of entry into force, unless each Party confirms that it wishes to continue the Agreement for a new 16-year term. Article 34.7 of the USMCA requires the Free Trade Commission (Commission), which is composed of government representatives of the United States, Mexico, and Canada (collectively, the Parties), to meet on the sixth anniversary of entry into force (i.e., July 1, 2026) to conduct a Joint Review of the operation of the Agreement, evaluate any recommendations for action submitted by a Party, and decide on any appropriate actions. As part of the Commission's Joint Review, each Party must confirm if it wishes to extend the term of the Agreement.² In addition, a Party wishing to make a recommendation for the Commission to take action must do so at least one month before the Joint Review meeting takes place (by June 1, 2026).

¹ The full text of the UMSCA is available at https://ustr.gov/trade-agreements/free-trade-agreements/united-states-mexico-canada-agreement/agreement-between.

² See USMCA, art. 34.7 (establishing the Joint Review and process for each Party to confirm its wishes regarding extension of the Agreement).

Pursuant to Section 611 of the United States-Mexico-Canada Agreement Implementation Act (19 U.S.C. 4611), prior to the Joint Review, USTR must provide an opportunity for the presentation of views relating to the operation of the USMCA, including a public hearing. To assist USTR as it develops positions and recommendations for the Joint Review, USTR invites interested persons to submit written comments (Part II) or oral testimony (Part III) on matters relevant to the Joint Review.

As part of this process, this notice also invites comments from interested persons on the Competitiveness Committee established under Article 26.1 of the USMCA to develop and implement cooperative activities in support of a strong economic environment that incentivizes production in North America, among other purposes. To date, the Competitiveness Committee has focused on expanding trilateral cooperation on North American workforce development issues and maintaining North American trade flows during emergency situations.³

³ See Decision No. 5 of the Free Trade Commission of the CUSMA, T-MEC, and USMCA (“The Agreement”) (Feb. 2023), https://ustr.gov/sites/default/files/files/agreements/usmca/DECISION%205%20VI.PDF; Addendum to Decision No. 5 of the Free Trade Commission of the CUSMA, T-MEC, and USMCA (“Addendum”) (May 2024), https://ustr.gov/sites/default/files/Addendum%20to%20USMCA%20FTC%20Decison%20No.%205.pdf.

II. Request for Public Comments

Interested persons must submit written comments using the docket titled “Request for Comments on the Operation of the Agreement between the United States of America, the United Mexican States, and Canada,” docket number USTR-2025-0004, using the electronic portal at https://comments.ustr.gov/s/ and following the instructions in Part IV below. To be assured of consideration, USTR must receive written comments by 11:59 p.m. EST on November 3, 2025. Additional instructions on how to submit written comments are provided below in Part IV.

In particular, this notice invites comments regarding:

• Any aspect of the operation or implementation of the USMCA.

• Any issues of compliance with the Agreement.

• Recommendations for specific actions that USTR should propose ahead of the Joint Review to promote balanced trade, new market access, and alignment on economic security with Mexico and Canada.

• Factors affecting the investment climate in North America and in the territories of each Party, as well as the effectiveness of the USMCA in promoting investment that strengthens U.S. competitiveness, productivity, and technological leadership.

• Strategies for strengthening North American economic security and competitiveness, including collaborative work under the Competitiveness Committee, and cooperation on issues related to non-market policies and practices of other countries.

III. Hearing Participation

USTR will convene a public hearing on November 17, 2025, at 10:00 a.m. EST, in the Main Hearing Room at the U.S. International Trade Commission, 500 E Street SW, Washington, DC 20436. If necessary, the hearing will continue the next business day. Persons wishing to appear at the hearing must provide written notification of their intention and a summary of the proposed testimony by November 3, 2025. Requests to appear must include a summary of testimony, and may be accompanied by a prehearing submission. Remarks at the hearing are limited to five minutes to allow for possible questions. Because the hearing will be public, testimony should not include any business confidential information (BCI).

Small businesses (generally defined by the Small Business Administration as firms with fewer than 500 employees) or organizations representing small business members that submit comments should self-identify as such, so that USTR may be aware of issues of particular interest to small businesses.

Interested persons must submit their request to appear and a summary of the testimony using the docket titled “Request to Appear at the Hearing on the Operation of the Agreement between the United States of America, the United Mexican States, and Canada,” docket number USTR-2025-0005, using the electronic portal at https://comments.ustr.gov/s/ and following the instructions in Part IV below. To be assured of consideration, USTR must receive the request to appear and the summary of testimony by November 3, 2025, by 11:59 p.m. EST.

Post-hearing rebuttal comments, which should be limited to rebutting or supplementing testimony presented at the hearing, may be submitted within seven calendar days after the last day of the public hearing. Rebuttal comments must be submitted to the appropriate docket titled “Request for Comments on the Operation of the Agreement between the United States of America, the United Mexican States, and Canada,” docket number USTR-2025-0004, using the electronic portal at https://comments.ustr.gov/s/ and following the instructions in Part IV.

IV. Procedures for Written Submissions

To be assured of consideration, submit written comments, requests to appear at the hearing, summaries of testimony, and post-hearing rebuttal comments using the appropriate dockets on the portal at https://comments.ustr.gov/s/ and as detailed in Parts II and III. All submissions must be in English. You do not need to establish an account to submit comments or a request to testify. The first screen allows you to enter identification and contact information. Third party organizations such as law firms, trade associations, or customs brokers should identify the full legal name of the organization they represent and identify the primary point of contact for the submission. USTR may not consider a comment or request if insufficient information is provided.

You may upload documents and indicate whether USTR should treat the documents as business confidential or public information. Any page containing BCI must be clearly marked “BUSINESS CONFIDENTIAL” on the top of that page and the submission should clearly indicate, via brackets, highlighting, or other means, the specific information that is BCI. If requesting confidential treatment, you must certify in writing that the information would not customarily be released to the public. Interested persons uploading attachments containing BCI also must submit a public version of their comments.

Daniel Watson,
Assistant U.S. Trade Representative for the Western Hemisphere, Office of the United States Trade Representative.

[FR Doc. 2025-18010 Filed 9-16-25; 8:45 am]

BILLING CODE 3290-F4-P